DEPARTMENT OF ENERGY

Federal Energy Regulatory Commission

Combined Notice of Filings #1

Take notice that the Commission received the following electric rate filings:

Docket Numbers: ER10-2137-022; ER14-2798-014; ER18-494-003; ER14-2799-014; ER12-164-021; ER15-1873-011; ER18-1197-003; ER10-2131-022; ER10-2138-022; ER10-2139-002; ER10-2140-022; ER10-2141-022; ER14-2187-016; ER11-4044-022; ER11-4046-021; ER18-491-003; ER18-492-003; ER10-2127-019; ER10-2125-021; ER18-1470-003; ER15-1041-011; ER15-2205-011; ER10-2133-021; ER10-2124-020; ER18-471-005; ER18-472-005; ER11-3872-022; ER10-2764-020; ER10-2132-020; ER10-2128-020.

Applicants: Beech Ridge Energy LLC, Beech Ridge Energy II LLC, Beech Ridge Energy II Holdings LLC, Beech Ridge Energy Storage LLC, Bishop Hill Energy III LLC, Buckeye Wind Energy LLC, Camilla Solar Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Hardin Wind Energy LLC, Hardin Wind Energy Holdings LLC, Invenergy TN LLC, Judith Gap Energy LLC, Pine River Wind Energy LLC, Prairie Breeze Wind Energy II LLC, Prairie Breeze Wind Energy III LLC, Sheldon Energy LLC, Spring Canyon Energy LLC, States Edge Wind I LLC, States Edge Wind I Holdings LLC, Stony Creek Energy LLC, Vantage Wind Energy LLC, Willow Creek Energy LLC, Wolverine Creek Energy LLC.

Description: Notice of Change in Facts Under Market-Based Rate Authority of Beech Ridge Energy LLC, et al.

Filed Date: 2/1/19.

Accession Number: 20190201-5264.

Comments Due: 5 p.m. ET 2/22/19.

Docket Numbers: ER14-2707-013; ER14-1630-007; ER16-1872-003; ER15-1375-004; ER15-2602-003; ER10-2720-018; ER11-4428-018; ER12-1880-017; ER18-2182-002; ER12-895-016; ER18-1535-002; ER14-21-005; ER11-4462-032; ER18-772-001; ER16-2443-001; ER17-1774-001; ER10-1970-012; ER11-4677-011; ER10-1972-012; ER17-838-007; ER10-1973-009; ER10-1951-012; ER10-1974-020; ER16-2241-006; ER10-1975-022; ER12-2444-010; ER10-1976-009; ER10-2641-033; ER16-2506-004; ER16-2297-006; ER10-1983-012; ER10-1984-012; ER14-2710-013; ER15-58-011; ER19-11-001; ER10-1985-009; ER18-2224-002; ER12-676-009; ER13-2461-007; ER17-196-001; ER18-1981-002; ER11-2192-012; ER16-1913-003; ER16-1440-007; ER16-2240-007; ER14-2708-014; ER14-2709-013; ER15-30-011; ER15-2243-002; ER15-1016-004; ER10-1989-010; ER19-774-002; ER13-2474-012; ER10-1991-013; ER17-2270-004; ER18-2091-001; ER12-1660-011; ER13-2458-007; ER11-4678-011; ER10-1994-010; ER17-582-002; ER10-2078-013; ER16-1293-004; ER16-1277-005; ER17-583-002; ER18-2032-002; ER10-1995-011; ER12-631-012; ER18-807-001.

Applicants: Mammoth Plains Wind Project, LLC, Manuta Creek Solar, LLC, Marshall Solar, LLC, McCoy Solar, LLC, Meyersdale Storage, LLC, Minco Wind, LLC, Minco Wind II, LLC, Minco Wind III, LLC, Minco IV & V Interconnection, LLC, Minco Wind Interconnection Services, LLC, Montauk Energy Storage Center, LLC, Mountain View Solar, LLC, NEPM II, LLC, New Mexico Wind, LLC, NextEra Blythe Solar Energy Center, LLC, NextEra Energy Bluff Point, LLC, NextEra Energy Duane Arnold, LLC, NextEra Energy Montezuma II Wind, LLC, NextEra Energy Point Beach, LLC, NextEra Energy Marketing, LLC, NextEra Energy Seabrook, LLC, NextEra Energy Services Massachusetts, LLC, Northeast Energy Associates, A Limited Partnership, Ninnescah Wind Energy, LLC, North Jersey Energy Associates, A Limited Partnership, North Sky River Energy, LLC, Northern Colorado Wind Energy, LLC, Oleander Power Project, Limited Partnership, Oliver Wind III, LLC, Osborn Wind Energy, LLC, Osceola Windpower, LLC, Osceola Windpower II, LLC, Palo Duro Wind Energy, LLC, Palo Duro Wind Interconnection Services, LLC, Peetz Logan Interconnect, LLC, Peetz Table Wind Energy, LLC, Pegasus Wind, LLC, Perrin Ranch Wind, LLC, Pheasant Run Wind, LLC, Pima Energy Storage System, LLC, Pinal Central Energy Center, LLC, Pratt Wind, LLC, Red Mesa Wind, LLC, River Bend Solar, LLC, Roswell Solar, LLC, Rush Springs Wind Energy, LLC, Seiling Wind, LLC, Seiling Wind II, LLC, Seiling Wind Interconnection Services, LLC, Silver State Solar Power South, LLC, Shafter Solar, LLC, Sky River LLC, Stanton Clean Energy, LLC, Steele Flats Wind Project, LLC, Story Wind, LLC, Stuttgart Solar, LLC, Titan Solar, LLC, Tuscola Bay Wind, LLC, Tuscola Wind II, LLC, Vasco Winds, LLC, Wessington Wind Energy Center, LLC, Westside Solar, LLC, White Oak Energy LLC, White Oak Solar, LLC, White Pine Solar, LLC, Whitney Point Solar, LLC, Wildcat Ranch Wind Project, LLC, Wilton Wind II, LLC, Windpower Partners 1993, LLC.

Description: Notice of Non-Material Change in Status of the NextEra MBR Sellers (Part 2).

Filed Date: 1/31/19.

Accession Number: 20190131-5384.

Comments Due: 5 p.m. ET 2/21/19.

Docket Numbers: ER19-982-000.

Applicants: PJM Interconnection, L.L.C.

Description: § 205(d) Rate Filing: Revisions to the OATT, section 234.2 re: Incremental Capacity Transfer Rights to be effective 2/5/2019.

Filed Date: 2/4/19.

Accession Number: 20190204-5221.

Comments Due: 5 p.m. ET 2/25/19.

Docket Numbers: ER19-983-000.

Applicants: Ameren Illinois Company.

Description: Request for Period I Waiver, et al. of Ameren Illinois Company.

Filed Date: 2/4/19.

Accession Number: 20190204-5233.

Comments Due: 5 p.m. ET 2/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2019.
Kimberly D. Bose,
Secretary.

[FR Doc. 2019-02005 Filed 2-11-19; 8:45 am]

BILLING CODE 6717-01-P